DEPARTMENT OF COMMERCE

National Oceanic and Atmospheric Administration

RIN 0648-XF744

Pacific Fishery Management Council; Public Meeting (Webinar)

AGENCY: National Marine Fisheries Service (NMFS), National Oceanic and Atmospheric Administration (NOAA), Commerce.

ACTION: Notice of public meeting.

SUMMARY: The Pacific Fishery Management Council's (Pacific Council) Ad hoc Community Advisory Board (CAB) will hold a two-day meeting in Portland, OR. The meeting is open to the public.

DATES: The meeting will be held on Tuesday, October 24, 2017 and Wednesday, October 25, 2017, from 8 a.m. each morning until business for each day has been completed.

ADDRESSES: The meeting will be held at the Sheraton Portland Airport Hotel, Garden A/B/C Room, 8235 NE Airport Way, Portland, OR 97220; telephone: (503) 281-2500.

Council address: Pacific Fishery Management Council, 7700 NE Ambassador Place, Suite 101, Portland, OR 97220.

FOR FURTHER INFORMATION CONTACT: Dr. Jim Seger, Pacific Council; telephone: (503) 820-2416.

SUPPLEMENTARY INFORMATION: The primary purpose of the CAB meeting is to review the public review draft of the catch share program five-year review document and continue to develop ranges of alternatives for Pacific Council consideration at the November 2017 Pacific Council meeting. The issues to be covered were identified by the Pacific Council at its June 2017 meeting, and include: Meeting the at-sea whiting fishery bycatch needs; trawl sablefish area management (including limits on gear switching); shoreside individual fishing quota (IFQ) accumulation limit; shoreside IFQ choke species management; and catcher-processor sector accumulation limits on permit ownership and harvesting/processing. Ranges of alternatives are to be developed and finalized for analysis over the course of the November 2017 and March/April 2018 Pacific Council meetings. Due to workload limitations, it is unlikely that all of these issues will move forward in 2018.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt (503) 820-2411 at least 10 business days prior to the meeting date.

Dated: October 5, 2017.
Tracey L. Thompson,
Acting Deputy Director, Office of Sustainable Fisheries, National Marine Fisheries Service.

[FR Doc. 2017-21889 Filed 10-10-17; 8:45 am]

BILLING CODE 3510-22-P